FEDERAL COMMUNICATIONS COMMISSION

47 CFR Part 73

[DA 04-1652; MB Docket No. 04-224; RM-10853, RM-10854]

Radio Broadcasting Services; Lake Havasu City, Arizona and Pahrump, NV

AGENCY: Federal Communications Commission.

ACTION: Proposed rule.

SUMMARY: This document requests comments on two mutually exclusive Petitions for Rule Making. The first proposal, filed by SSR Communications Incorporated, proposes the allotment of Channel 272C3 at Pahrump, Nevada, as that community's third local service. The second proposal, filed by Steven M. Greeley, licensee of Station KJJJ(FM), Lake Havasu City, Arizona, requests the substitution of Channel 272C for Channel 272B at Lake Havasu City, Arizona, the reallotment of Channel 272C from Lake Havasu City to Pahrump, Nevada, as its third local service, and modification of Station KJJJ(FM)'s license accordingly. Channel 272C3 can be allotted to Pahrump, Nevada, in conformity with the Commission's Rules, provided there is a site restriction of 6.1 kilometers (3.8 miles) northwest of the community. The reference coordinates for Channel 272C3 at Pahrump are 36-14-09 North Latitude and 116-02-32 West Longitude. Alternatively, Channel 272C can be allotted to Pahrump, consistent with the minimum distance separation requirements of Section 73.207(b) of the Commission's Rules, provided there is a site restriction of 15.6 kilometers (9.7 miles) west of the community. The reference coordinates for Channel 272C at Pahrump are 36-15-25 North Latitude and 116-08-45 West Longitude.

DATES: Comments must be filed on or before August 2, 2004, and reply comments on or before August 17, 2004.

ADDRESSES: Federal Communications Commission, 445 Twelfth Street, SW., Washington, DC 20554. In addition to filing comments with the FCC, interested parties should serve the petitioner, as follows: Matthew K. Wesolowski, General Manager, SSR Communications Incorporated, 5270 West Jones Bridge Road, Norcross, GA 30092-1628 and Robert L. Olender, Esq., c/o Steven M. Greeley, Koerner & Olender, PC, 5809 Nicholson Lane, Suite 124, North Bethesda, Maryland 20852-5706.

FOR FURTHER INFORMATION CONTACT: Rolanda F. Smith, Media Bureau, (202) 418-2180.

SUPPLEMENTARY INFORMATION: This is a summary of the Commission's Notice of Proposed Rule Making, MB Docket No. 04-224, adopted June 8, 2004, and released June 10, 2004. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20554, telephone 1-800-378-3160 or http://www.BCPIWEB.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Arizona, is amended by removing Channel 272C2 at Lake Havasu City.

3. Section 73.202(b), the Table of FM Allotments under Nevada, is amended by adding Channel 272C3 or Channel 272C at Pahrump.

Federal Communications Commission.
John A. Karousos,
Assistant Chief, Audio Division, Media Bureau.

[FR Doc. 04-14481 Filed 6-24-04; 8:45 am]

BILLING CODE 6712-01-P